DEPARTMENT OF JUSTICE

Notice of Lodging of Proposed Consent Decree Under The Comprehensive Environmental Response, Compensation, and Liability Act

Notice is hereby given that on January 18, 2008, a Consent Decree in United States of America v. Honeywell International Inc., et al., Civil Action No. 7:08cv00029, was lodged with the United States District Court for the Western District of Virginia.

The United States alleges that it has claims against Honeywell International Inc., H.W. Huff, Jr., Downtown East Limited Partnership, Downtown East, Inc., and DELP-2, LLC, under Section 107(a) of the Comprehensive Environmental Response, Compensation and Liability Act (“CERCLA”), 42 U.S.C. 9607(a), for reimbursement of its past response costs incurred at the Allied-Pulaski Superfund Site, located in the Town of Pulaski, Pulaski County, Virginia (the “Site”). This action also involves EPA's claim under Section 106(b) of CERCLA, 42 U.S.C. 9606(b), for penalties for non-compliance with an EPA administrative order. The proposed settlement resolves those claims as set forth in the attached consent decree, which provides for reimbursement of $572,828.44 of the United States' past response costs, and for payment of a civil penalty of $23,500 by certain of the defendants.

The Department of Justice will receive for a period of thirty (30) days from the date of this publication comments relating to this proposed Consent Decree. Comments should be addressed to the Assistant Attorney General, Environment and Natural Resources Division, and either e-mailed to pubcomment-ees.enrd@usdoj.gov or mailed to P.O. Box 7611, U.S. Department of Justice, Washington, DC 20044-7611, Attention: Nancy Flickinger (EES), and should refer to United States of America v. Honeywell International Inc., et al., Civil Action No. 07:08cv00029, D.J. Ref. 90-11-3-08708.

The proposed Consent Decree may be examined at the Office of the United States Attorney for the Western District of Virginia, 301 First Street, SW., Roanoke, VA 24008 and at U.S. EPA Region III's Office, 1650 Arch Street, Philadelphia, PA 19103. During the public comment period, the consent decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $9.75 (25 cents per page reproduction cost for a full copy) payable to the U.S. Treasury.

Robert D. Brook,
Assistant Chief, Environmental Enforcement Section, Environment and Natural Resources Division.

[FR Doc. E8-3650 Filed 2-26-08; 8:45 am]

BILLING CODE 4410-15-P